SECURITIES AND EXCHANGE COMMISSION

Sunshine Act Meeting

Notice is hereby given, pursuant to the provisions of the Government in the Sunshine Act, Public Law 94-409, that the Securities and Exchange Commission will hold an Open Meeting on December 16, 2013, at 2:00 p.m., in the Auditorium (L-002) at the Commission's headquarters building, to hear oral argument in an appeal by Absolute Potential, Inc. (f/k/a Absolute Waste Services, Inc.) from an initial decision of an administrative law judge.

On February 15, 2012, the law judge found that Absolute Potential, Inc., an issuer whose common stock is registered pursuant to Section 12(g) of the Securities Exchange Act of 1934, violated Exchange Act Section 13(a) and Exchange Act Rules 13a-1 and 13a-13 by failing to file timely quarterly and annual reports for any period after June 30, 2006. The law judge revoked the registration of the company's stock pursuant to Exchange Act Section 12(j). Absolute filed certain annual and quarterly reports prior to, as well as after, the issuance of the law judge's decision.

Absolute Potential does not appeal the law judge's findings of violation but, rather, the law judge's determination to revoke its registration. Exchange Act Section 12(j) authorizes sanctions, including revocation, for reporting violations where it is “necessary or appropriate for the protection of investors.” Issues likely to be considered at oral argument include the extent to which, under the circumstances, sanctions are warranted.

The duty officer has determined that no earlier notice was practicable.

For further information, please contact the Office of the Secretary at (202) 551-5400.

Dated: December 11, 2013.
Elizabeth M. Murphy,
Secretary.

[FR Doc. 2013-29903 Filed 12-12-13; 11:15 am]

BILLING CODE 8011-01-P